DEPARTMENT OF COMMERCE

National Oceanic and Atmospheric Administration

50 CFR Part 648

[Docket No. 160301164-6694-02]

RIN 0648-XF260

Fisheries of the Northeastern United States; Northeast Skate Complex; Adjustment to the Skate Wing and Skate Bait Inseason Possession Limits

AGENCY: National Marine Fisheries Service (NMFS), National Oceanic and Atmospheric Administration (NOAA), Commerce.

ACTION: Temporary rule; inseason adjustments.

SUMMARY: We are adjusting the commercial per-trip possession limits for the skate wing and skate bait fisheries for the remainder of the 2016 fishing year, through April 30, 2017, based on revised projection. These possession limit adjustments are necessary to allow fishermen the opportunity to fully harvest the remaining skate wing and skate bait annual commercial quotas. This announcement informs the public that the skate wing and skate bait possession limits have been increased.

DATES: Effective March 15, 2017, through April 30, 2017.

FOR FURTHER INFORMATION CONTACT: Reid Lichwell, Fishery Management Specialist, 978-281-9112.

SUPPLEMENTARY INFORMATION:

Background

The skate wing and skate bait fisheries are managed primarily through the Northeast Skate Complex Fishery Management Plan. On January 30, 2017, we reduced the commercial skate wing possession limit from 4,100 lb (1,860 kg) of skate wings [9,307 lb (4,222 kg) whole weight] to the incidental possession limit of 500 lb (227 kg) of skate wings [1,135 lb (515 kg) whole weight] per trip and reduced the skate bait possession limit from 25,000 lb (11,340 kg) to 1,135 lb (515 kg) (whole weight) per trip, equivalent to the skate wing limit, for the remainder of the fishing year. The NMFS Greater Atlantic Regional Administrator is authorized to reduce the skate wing possession limit and required to reduce the skate bait possession limit when landings reached 85 and 90 percent, respectively, of their annual total allowable landings (TAL). There is an exception, however, if the reduction is expected to prevent the attainment of the TAL. The regulations describing the process to adjust inseason commercial possession limits of skate wings and skate bait are described at 50 CFR 648.322(b) and (d).

Based on landings data reported through February 21, 2017, our revised projections indicate that under the current possession limits, the skate wing and skate bait fisheries will only harvest 90 percent and 95 percent, respectively, of the annual TAL before the end of the fishing year. Because the annual TAL would not be fully utilized under the current possession limits, we are authorized to adjust the possession limits in accordance with the regulations to allow the attainment of the TAL. Revised projections indicate that if the possession limit for skate wings was increased from 500 lb (227 kg) back to the seasonal 4,100 lb (1,860 kg) of skate wings per trip [which would also, by regulation, increase the skate bait limit to 9,307 lb (4,222 lb), whole weight, per trip], these fisheries could operate at these higher possession limits for approximately 45 days before the end of the fishing year without exceeded the annual quota. Increasing the possession limits on March 15, 2017, until the end of the fishing year (April 30, 2017) would allow the annual TAL to be fully utilized while limiting the possibility of exceeding it.

Inseason Action

This action increases the commercial skate wing possession limit from 500 lb (227 kg) of skate wings [1,135 lb (515 kg) whole weight] to 4,100 lb (1,860 kg) of skate wings [9,307 lb (4,222 kg) whole weight] per trip. We also are increasing the skate bait possession limit from 1,135 lb (515 kg) to 9,307 lb (4,222 kg) (whole weight) per trip; the whole weight equivalent of the skate wing possession limit. The annual TAL for both the skate wing and skate bait fisheries is divided into seasonal quota periods in which landings are applied to each quota to evaluate the need for possession limit adjustments. We are currently in skate wing season 2 (September 1, 2016, through April 30, 2017) and skate bait season 3 (November 1, 2016, through April 30, 2017). These are the final skate seasons of the 2016 fishing year, providing us with cumulative annual landings data which allow us to project when the annual TAL would be harvested. We anticipate that implementing these inseason adjustments will allow an opportunity for both fisheries to harvest the annual TAL while reducing the possibility of exceeding it. Beginning March 15, 2017, no person may possess on board or land more than 9,307 lb (4,222 kg) of whole weight skate per trip for the remainder of the 2016 fishing year.

On May 1, 2017, the commercial skate wing possession limit will revert to the skate wing season 1 (May 1, 2017, to August 31, 2017) possession limit of 2,600 lb (1,179 kg) of skate wing [5,902 lb (2,677 kg) whole weight] per trip, and the commercial skate bait possession limit will increase to 25,000 lb (11,340 kg) per trip until a possession limit adjustment is warranted.

Classification

This action is taken under 50 CFR part 648 and is exempt from review under Executive Order 12866.

Authority: 16 U.S.C. 1801 et seq.

Dated: March 7, 2017.
Karen H. Abrams,
Acting Deputy Director, Office of Sustainable Fisheries, National Marine Fisheries Service.

[FR Doc. 2017-04934 Filed 3-9-17; 4:15 pm]

BILLING CODE 3510-22-P